ENVIRONMENTAL PROTECTION AGENCY

[EPA-HQ-OW-2017-0300; FRL-11162-01-OW]

Proposed Information Collection Request; Comment Request; Information Collection Request for Lead and Copper Rule Revisions (LCRR)

AGENCY: Environmental Protection Agency (EPA).

ACTION: Notice.

SUMMARY: The U.S. Environmental Protection Agency (EPA) is planning to submit an information collection request (ICR), “Information Collection Request for Lead and Copper Rule Revisions (LCRR)” (EPA ICR No. 2606.03, OMB Control No. 2040-0297) to the Office of Management and Budget (OMB) for review and approval in accordance with the Paperwork Reduction Act . Before doing so, EPA is soliciting public comments on specific aspects of the proposed information collection as described below. This is a proposed extension of the LCRR ICR with additional information on the potential burden that may result from respondents (public water systems, primacy agencies, and EPA) consulting EPA's recommendations in “Guidance for Developing and Maintaining a Service Line Inventory” (August 2022, EPA 816-B-22-001) (referred to as Service Line (SL) Inventory Guidance) when seeking to comply with the requirements of the LCRR. An Agency may not conduct or sponsor, and a person is not required to respond to a collection of information unless it displays a currently valid OMB control number. While this ICR covers a period of time following the LCRR compliance date, October 16, 2024, EPA intends to revise many parts of the LCRR through the Lead and Copper Rule Improvements (LCRI) prior to that compliance date. EPA intends to promulgate LCRI by October 16, 2024. EPA intends to issue an ICR that would revise the information collection to reflect the requirements under LCRI when it proposes and promulgates the LCRI.

DATES: Comments must be submitted on or before September 22, 2023.

ADDRESSES: Submit your comments, referencing Docket ID No. EPA-HQ-OW-2017-0300, online using www.regulations.gov (our preferred method), by email to LCRR@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Amina Grant, Standards and Risk Management Division, Office of Water, Environmental Protection Agency, Mail Code 4607M, 1200 Pennsylvania Ave. NW, Washington, DC 20460; telephone number: 202-564-7683; email address: Grant.Amina@epa.gov.

SUPPLEMENTARY INFORMATION: Supporting documents that explain in detail the information that EPA will be collecting are available in the public docket for this ICR. The docket can be viewed online at www.regulations.gov, Docket ID No. EPA-HQ-OW-2017-0300, or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act (44 U.S.C. 3501 et seq, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA is also requesting comment on the potential burden and costs associated with the non-binding voluntary recommendations in EPA's “Guidance for Developing and Maintaining a Service Line Inventory,” or SL Inventory Guidance, and the inventory templates provided in Appendix A of the guidance document. In addition, EPA is requesting comment on the recommendations in the SL Inventory Guidance about how to implement the LCRR requirement that public water systems (PWS) internally track address the locations of each service line. EPA will consider the comments received and amend the ICR, as appropriate. The final ICR package will then be submitted to OMB for review and approval. At that time, EPA will issue another Federal Register notice to announce the submission of the ICR to OMB and the opportunity to submit additional comments to OMB.

Abstract: On January 15, 2021, the U.S. Environmental Protection Agency (EPA) published in the Federal Register (FR) the “National Primary Drinking Water Regulations: Lead and Copper Rule Revisions” (LCRR) (86 FR 4198). In a subsequent action on June 16, 2021, EPA published the “National Primary Drinking Water Regulations: Lead and Copper Rule Revisions; Delay of Effective and Compliance Dates” (86 FR 31939), which set the new effective date for the LCRR as December 16, 2021, and the compliance date as October 16, 2024. Office of Management and Budget (OMB) approved the initial “Information Collection Request for Lead and Copper Rule Revisions (LCRR)” on July 25, 2022, and set the renewal date as December 31, 2023. Therefore, this ICR renewal characterizes the incremental impacts of the LCRR in terms of the burden and costs for the three years after December 31, 2023 (January 1, 2024, through December 31, 2026). Also, this ICR modifies the extension to the ICR titled, “Disinfectants/Disinfection Byproducts, Chemical, and Radionuclides Rules” (80 FR 78224, December 16, 2015, OMB control number 2040-0204), which estimates the burden and costs associated with the previous Lead and Copper Rule (LCR) as well as other rules.

In addition to the renewal of the “Information Collection Request for Lead and Copper Rule Revisions (LCRR),” this ICR includes information on the potential burden that may result from respondents (public water systems, primacy agencies, and EPA) that choose to follow recommendations included in EPA's “Guidance for Developing and Maintaining a Service Line Inventory” (August 2022, EPA 816-B-22-001) when seeking to comply with the inventory requirements of the LCRR over the same three-year period of January 1, 2024 to December 31, 2026. While this ICR covers a period of time following the LCRR compliance date, EPA intends to revise the LCRR prior to the compliance date. EPA intends to promulgate the Lead and Copper Rule Improvements (LCRI) by October 16, 2024 and revise many rule areas of the LCRR. The following summary of the LCRR and the estimated burden and costs associated with this ICR renewal for the LCRR describe what would happen without promulgation of the LCRI and is provided for the reader to understand the information that would be collected if the LCRI is not promulgated. However, EPA intends to promulgate the LCRI. At that time, EPA also intends to issue a new ICR that would describe and assess the revised burden and costs to reflect the LCRI when EPA proposes and promulgates the LCRI.

The LCRR revised the previous version of this National Primary Drinking Water Regulation and requires community and non-transient non-community water systems to optimize corrosion control and, under specified conditions, install source water treatment, conduct public education, and replace lead service lines (LSLs) in the distribution system. The LCRR also expands public education requirements for lead, requires greater public access to information on lead, and further emphasizes lead reduction for sensitive subpopulations by requiring additional lead in drinking water testing at schools and child care facilities. The LCRR is designed to identify and reduce lead exposure at systems with elevated lead concentrations in their drinking water by establishing a lead trigger level (TL) of 0.010 milligrams per liter (mg/L) in addition to the lead action level (AL) of 0.015 mg/L that was established under the previous rule (a system's lead concentration is measured as the 90th percentile water lead level derived from a set of samples collected at consumers taps during each monitoring period). See the LCRR final rule Federal Register for detailed information on the specific regulatory requirements (86 FR 4198, January 15, 2021).

Water systems required to comply with the regulation include Federal, State, Tribal, and local governmental entities as well as private entities. States (and Tribes) that have been granted primary enforcement authority (i.e., primacy) for the LCR are responsible for overseeing rule implementation by systems within their jurisdiction. In instances where a State or Tribe does not have primacy, the EPA Region is the primacy agency. Systems demonstrate compliance through reporting the analytical results of collected samples, LSL statistics (both the number of LSLs present in a system and the number of LSLs replaced following a TLE or ALE), and other information to the primacy agency. Systems use this data to demonstrate compliance, assess treatment options, operate and maintain installed treatment, and communicate water quality information to consumers served by the system. Primacy agencies use the data to determine compliance, designate treatment to be installed, and set enforceable operating parameters. Primacy agencies are also required to report a subset of the data to EPA, which uses this information to protect public health by ensuring compliance with the LCR, measuring progress toward meeting the LCR's goals, and evaluating the appropriateness of State and Tribal implementation activities. The information reported by primacy agencies to EPA can be found in the Safe Drinking Water Information System (SDWIS).

In 2024, the first year of the LCRR ICR renewal period, which includes the October 16, 2024 LCRR compliance date, PWSs should still be engaged in the regulatory startup activities identified in the original “Information Collection Request for Lead and Copper Rule Revisions (LCRR).” These activities include reading and understanding the LCRR, assigning personnel and resources for rule implementation, attending training and receiving technical assistance from the State, developing initial LSL inventories and submitting demonstrations for systems that do not have lead, galvanized requiring replacement (GRR), and unknown service lines, and conferring with primacy agencies on initial planning for lead service line replacement (LSLR) and preparation of an LSLR plan when lead, GRR, and unknown service lines are present. During this same period, primacy agencies will conduct startup activities that include adopting the rule and developing a program to implement it, modifying their data systems, providing system staff with training and technical assistance, providing internal staff with training for implementation, assisting with initial LSL inventories and reviewing initial inventories, reviewing demonstrations of no LSLs, GRRs, and unknown lines from systems, and conferring with systems on initial planning for LSLR and reviewing the LSLR plan.

Following the LCRR compliance date, both systems and primacy agencies must work to implement several ongoing and additional regulatory requirements. The resultant ICR related burden and costs associated with these implementation activities are estimated in years 2025 and 2026 of this ICR renewal. The LCRR ICR water system activities occurring in years 2025 and 2026 include ongoing rule implementation and administration, lead and copper tap monitoring, corrosion control treatment (CCT), find-and-fix, water quality parameter monitoring, source water monitoring, LSL inventory updates, LSLR, small system point-of-use (POU) treatment as a compliance alternative,¹ lead public education and outreach, public notification, and lead in drinking water testing programs at schools and child care facilities.² During this same period, the burden and cost to primacy agencies stems from their review and oversight of the activities associated with each of the PWS requirements outlined above as well as training staff and managing data systems. See the LCRR final rule Federal Register publication for detailed information on the specific regulatory requirements to occur in the years 2024, 2025, and 2026 (86 FR 4198, January 15, 2021). However, note that EPA intends to revise many of the parts of LCRR through LCRI prior to the October 16, 2024, compliance date, including a future ICR associated with the LCRI.

¹ The replacement of lead bearing plumbing compliance option for small system flexibility is not costed out in this ICR or the Economic Analysis for the Final Lead and Copper Rule Revisions. EPA lacks the system characteristic data that would allow the Agency to determine a small system's cost for replacement of lead-bearing plumbing materials because of the significant variability among systems and the plumbing materials in the buildings they serve. EPA assumes a system would only select the replacement of lead-bearing plumbing materials compliance option if it cost less than the three other alternative compliance options (LSLR, CCT, and POU).

² Note the degree of burden and cost associated with the majority of these activities is dependent on sampled water lead levels at individual systems.

In this ICR, EPA is also assessing the potential burden and cost to public water systems, primacy agencies, and EPA that choose to follow the non-binding recommendations made by EPA in its “Guidance for Developing and Maintaining a Service Line Inventory” (August 2022, EPA 816-B-22-001), when seeking to comply with the inventory requirements of the LCRR over the same three-year period (January 1, 2024 through December 31, 2026).³

³ The SL Inventory Guidance document is not a regulation itself nor does it change or substitute for the relevant provisions and requirements in the Safe Drinking Water Act and LCRR. Thus, it does not impose legally binding requirements on EPA, primacy agencies, or the regulated community. The document does not confer legal rights or impose legal obligations on EPA, primacy agencies, the regulated community, or any member of the public.

The purpose of the SL Inventory Guidance is to assist water systems as they develop and maintain their service line inventories and to provide primacy agencies with needed information for oversight and reporting to EPA. The guidance covers the lifecycle of the inventory, including inventory creation, material investigations, system reporting, primacy agency review, public accessibility of service line information, and service line consumer notification. In addition, the guidance provides best practices, case studies, and templates related to topics, such as the classification of service line materials; best practices for service line material investigations; inventory form and format; inventory accessibility; tools to support inventory development and data tracking; and ways to prioritize service line investigations.

More specifically, in this ICR, EPA assessed the potential incremental burden and cost associated with the general recommendations for PWSs to: create an initial inventory that is as thorough as possible; provide, in the publicly accessible inventory, location identifiers for all service lines that are sufficiently detailed to allow the identification of a specific service line; expand inventories to include service line subclassifications, other plumbing components such as lead connectors, and other details such as source of information, pipe diameter, and installation date; conduct interviews with experienced staff and plumbers to help focus the inventory effort and locate system records; interview neighboring water systems about regional construction practices; consider inventory practices as something that can be worked into the day-to-day activities of the system rather than treated as an independent effort; consider developing or modifying SOPs to document how they will collect service line information during normal operations and update their inventories; partner with plumbers and other third parties to obtain information on service line materials; document the records they reviewed (including information from past reviews) as a best practice and include the source of the material classification in their inventory; and continue to gather information on service line materials after the lines have been classified and assess the accuracy of historical records.

The ICR also assesses the potential burden and cost impacts of the SL Inventory Guidance recommendations associated with the LCRR requirement to update the inventory.⁴ The guidance recommends that PWSs begin engaging customers and conducting proactive, on-site service line material investigations as soon as possible to improve their inventory, verify existing records, and reduce the number of unknowns. The service line investigative techniques discussed in the SL Inventory Guidance include visual observation, water quality sampling, predictive modeling, and excavation.

⁴ The LCRR requires submission of the updated version of the inventory on the same schedule as a system's tap sampling monitoring, but no more frequently than annually (40 CFR 141.90(e)(3)).

A third category of potential burden and costs that could result from PWSs choosing to implement the guidance recommendations are those associated with public accessibility of the inventory. In the guidance, EPA recommends that systems select the best method for sharing the inventory data with the public given their data sharing infrastructure, technological capabilities, and staff limitations. Online systems could share data in the form of interactive maps or downloadable spreadsheets on the system's website or through other cloud-based sharing apps or FTP/SFTP servers. For PWSs that do not have an online system to disseminate inventory data, EPA recommends that these PWSs consider developing such a system. Alternatively, in the guidance, EPA suggests that information can be shared in a tabular data format in preexisting utility mailings or newsletters.

Appendix A of the SL Inventory Guidance also provides templates to assist primacy agencies and PWSs to standardize and potentially simplify the inventory development and update process.⁵ For detailed information on the SL Inventory Guidance recommendations and templates, see https://www.epa.gov/ground-water-and-drinking-water/revised-lead-and-copper-rule.

⁵ See EPA's website at https://www.epa.gov/ground-water-and-drinking-water/revised-lead-and-copper-rule for a downloadable, spreadsheet version of the template that contains forms and additional sheets for inventory tracking.

Form Numbers: None.

Respondents/affected entities: Data associated with this ICR are collected and maintained by PWS and State, Territorial, Tribal, and Federal governments. Respondents include:

• Owners/operators of PWSs, who must report to their primacy agency.

• Primacy agencies, and the EPA Regions that act as primacy agencies for States, Territories, and Tribal lands that do not have primacy.

The North American Industry Classification System (NAICS) code for privately owned PWSs is 22131. The NAICS codes for State agencies that include drinking water programs are 92411 (Administration of Air and Water Resources and Solid Waste Management Programs) or 92312 (Administration of Public Health Programs). Ancillary systems (systems where providing water is ancillary to a primary business, e.g., mobile home parks) cannot be categorized in a single NAICS code. For ancillary systems, the NAICS code is that of the primary establishment or industry.

Respondent's obligation to respond: This collection has both mandatory and voluntary components. The mandatory data collection is associated with the regulatory requirements of the LCRR. The authority for this collection is derived from different parts of SDWA, including the definition for a “primary drinking water regulation” under section 1401(1)(D) of SDWA, which requires that a “primary drinking water regulation means a regulation” that “contains criteria and procedures to assure a supply of drinking water which dependably complies with such maximum contaminant levels [or treatment techniques promulgated in lieu of a maximum contaminant level]; including accepted methods for quality control and testing procedures to [e]nsure compliance with such levels and to [e]nsure proper operation and maintenance of the system . . .” Furthermore, section 1445(a)(1)(A) of SDWA requires that “[e]very person who is subject to any requirement of this subchapter or who is a grantee, shall establish and maintain such records, make such reports, conduct such monitoring, and provide such information as the Administrator may reasonably require by regulation to assist the Administrator in establishing regulations under this subchapter, in determining whether such person has acted or is acting in compliance with this subchapter . . .” In addition, section 1413(a)(3) of SDWA requires primacy agencies to “keep such records and make such reports . . . as the Administrator may require by regulation.”

A portion of the estimated burden and costs associated with this ICR come from activities PWSs and primacy agencies may implement based on the non-binding recommendations, provided in EPA's SL Inventory Guidance, on the development and maintenance for the LCRR-required initial LSL inventory and subsequent updates to that inventory. Based on the recommendations and best practices included in the SL Inventory Guidance, EPA anticipates that PWSs that choose to implement some or all of the recommendations and best practices may achieve benefits, such as having a more accurate service line inventory that helps facilitate LCRR compliance, improving LSLR program efficiency and transparency, providing greater public health protection, potentially assisting in obtaining external funds for inventory development and LSLR, improving asset management, and providing potential cost savings. A more robust inventory that uses these recommendations may provide primacy agencies with more accurate information for oversight and reporting.

Estimated number of respondents: The total number of respondents for this ICR is 67,712. Fifty-six of these respondents are primacy agencies and the remaining 67,656 respondents are water systems.

Frequency of response: The estimated total net average annual number of responses is 56,055,890 (55,356,286 system responses plus 699,604 primacy agency responses).

Total estimated burden: The total net annual respondent burden associated with this ICR is estimated to be 9,660,286 hours (per year). Burden is defined at 5 CFR 1320.03(b).

Total estimated cost: The total net annual costs are estimated to be $641,162,423 per year.

Changes in Estimates: There is an increase between 25,592,837 and 25,809,781 hours ⁶ in the total estimated respondent burden compared with the ICR currently approved by OMB. This increase is primarily due to the differing ICR burden estimation windows. The previous ICR covered the first three years after the promulgation of the LCRR when PWSs and primacy agencies should be engaged in the regulatory startup/implementation activities identified in the original “Information Collection Request for Lead and Copper Rule Revisions (LCRR)” or the currently approved ICR. These activities include reading and understanding the LCRR, assigning personnel and resources for rule implementation, attending training and receiving technical assistance from the State, developing initial LSL inventories and submitting demonstrations that systems only have non-lead service lines (where applicable), and conferring with primacy agencies on initial planning for LSLR and preparing an LSLR plan when LSLs are present. During this same period, primacy agencies should be conducing startup activities that include adopting the rule and developing a program to implement it, modifying their data systems, providing system staff with training and technical assistance, providing internal staff with training for implementation, assisting with initial LSL inventories and reviewing initial inventories, reviewing demonstrations of only non-lead service lines from systems, and conferring with systems on initial planning for LSLR and reviewing the LSLR plan. This proposed ICR covers these same activities from the currently approved ICR in the first year of this ICR renewal period (2024), but in the next two years (2025 and 2026) of the ICR, both systems and primacy agencies must work to implement a number of ongoing and additional regulatory requirements including ongoing rule implementation and administration, lead and copper tap monitoring, corrosion control treatment, find-and-fix, water quality parameter monitoring, source water monitoring, LSL inventory updates, LSL replacement, small system POU treatment as a compliance alternative, lead public education and outreach, public notification, and lead in drinking water testing programs at schools and child care facilities. During this same period, the burden and cost to primacy agencies stems from their review and oversite activities associated with this larger set of the PWS requirements for 2025 and 2026. A relatively small increase in burden is associated with systems and primacy agencies voluntarily following recommendations associated with EPA's SL Inventory Guidance. Approximately 3 million hours of the total burden increase is attributable to inventory guidance activities not already covered by the original LCRR impact analysis.

⁶ The currently approved ICR provided a total burden range of 3,171,076 to 3,388,020 hours. The current analysis provides only a single high-end estimate of 28,980,857 hours.

Jennifer McLain,
Director, Office of Ground Water and Drinking Water.

[FR Doc. 2023-15616 Filed 7-21-23; 8:45 am]

BILLING CODE 6560-50-P